DEPARTMENT OF TRANSPORTATION

Federal Aviation Administration

14 CFR Part 39

[Docket No. 2002-NM-302-AD]

RIN 2120-AA64

Airworthiness Directives; Fokker Model F27 Mark 100, 200, 300, 400, 500, 600, and 700 Series Airplanes

AGENCY: Federal Aviation Administration, DOT.

ACTION: Notice of proposed rulemaking (NPRM).

SUMMARY: This document proposes the adoption of a new airworthiness directive (AD) that is applicable to certain Fokker Model F27 Mark 100, 200, 300, 400, 500, 600, and 700 series airplanes. This proposal would require a one-time inspection to determine the part number of the engine mounting frames, brace struts, and attachment fittings; and related corrective action. This action is necessary to ensure the structural integrity of the engine-to-wing load path and prevent possible separation of the engine from the airplane. This action is intended to address the identified unsafe condition.

DATES: Comments must be received by July 2, 2004.

ADDRESSES: Submit comments in triplicate to the Federal Aviation Administration (FAA), Transport Airplane Directorate, ANM-114, Attention: Rules Docket No. 2002-NM-302-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-302-AD” in the subject line and need not be submitted in triplicate. Comments sent via the Internet as attached electronic files must be formatted in Microsoft Word 97 or 2000 or ASCII text.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-302-AD.” The postcard will be date stamped and returned to the commenter.

Availability of NPRMs

Any person may obtain a copy of this NPRM by submitting a request to the FAA, Transport Airplane Directorate, ANM-114, Attention: Rules Docket No. 2002-NM-302-AD, 1601 Lind Avenue, SW., Renton, Washington 98055-4056.

Discussion

The Civil Aviation Authority—The Netherlands (CAA-NL), which is the airworthiness authority for the Netherlands, notified the FAA that an unsafe condition may exist on certain Fokker Model F27 Mark 100, 200, 300, 400, 500, 600, and 700 series airplanes. The CAA-NL advises that there have been several approved modifications to Model F27 series airplanes over the years that add higher weight and more powerful engines, increased maximum landing weights, and reduced flap settings. These changes result in higher loads on the engine mounts, brace struts, and attachment fittings. Although replacement of the engine mounts, brace struts, and attachment fittings with new improved, stronger units was part of the previous modification procedures, it has been determined that the original parts may have been re-installed on some of the modified airplanes. These modifications ensure the structural integrity of the engine-to-wing load path and prevent possible separation of the engine from the airplane.

Explanation of Relevant Service Information

Fokker Services B.V. has issued Service Bulletin F27/54-53, dated February 15, 2002, which describes procedures for a one-time visual examination to determine the part number (PN) of the engine mounting frames, brace struts, and attachment fittings; and related corrective action. The related corrective action involves replacing incorrect parts on airplanes having a post-Fokker Service Bulletin F27/71-29, F27/71-31, F27/71-41, or F27/71-42 configuration. Service Bulletin F27/54-53 references the following service bulletins for procedures for the related corrective actions:

• Fokker Service Bulletin 51-24, dated December 1, 1971; which describes procedures for installing a new, improved engine mounting frame.

• Fokker Service Bulletin F27/54-26, Revision 5, dated September 30, 2001; which describes procedures for installing new, improved, stronger brace struts and brackets.

Accomplishment of the actions specified in Service Bulletin F27/54-53 is intended to adequately address the identified unsafe condition. The CAA-NL classified this service bulletin as mandatory and issued Dutch airworthiness directive 2002-067, dated May 31, 2002, to ensure the continued airworthiness of these airplanes in the Netherlands.

FAA's Conclusions

This airplane model is manufactured in the Netherlands and is type certificated for operation in the United States under the provisions of § 21.29 of the Federal Aviation Regulations (14 CFR 21.29) and the applicable bilateral airworthiness agreement. Pursuant to this bilateral airworthiness agreement, the CAA-NL has kept us informed of the situation described above. We have examined the findings of the CAA-NL, reviewed all available information, and determined that AD action is necessary for products of this type design that are certificated for operation in the United States.

Explanation of Requirements of Proposed Rule

Since an unsafe condition has been identified that is likely to exist or develop on other airplanes of the same type design registered in the United States, the proposed AD would require accomplishment of the actions specified in Fokker Service Bulletin F27/54-53, except as discussed below.

Differences Among Service Bulletin, Dutch Airworthiness Directive, and This Proposed AD

The Dutch airworthiness directive and Service Bulletin F27/54-53 recommend that the one-time inspection to determine the part numbers of the engine mounting frames, brace struts, and attachment fittings be done within 6 months after the effective date/issuance of those documents; however, this proposed AD would require operators to do the one-time inspection within 24 months after the effective date of this AD. In developing the compliance time for this action, we considered the degree of urgency associated with addressing the subject unsafe condition as well as the availability of required parts. We have determined that 24 months represents an appropriate interval of time in which an ample number of required parts will be available to modify affected airplanes, if corrective action is required, without adversely affecting the safety of these airplanes. This change has been coordinated with the CAA.

The applicability section in the Dutch airworthiness directive includes, in part, “all aircraft that operate with a standard flap setting for landing of 26.5 degrees.” Service Bulletin F27/54-53 includes specific actions for airplanes that operate with a standard flap setting for landing of 26.5 degrees. Therefore, such airplanes do not require specific identification in the applicability section of this proposed AD.

Service Bulletin F27/54-53 refers to a visual examination to determine certain P/Ns; the Dutch airworthiness directive specifies to “inspect” for P/N identification. We have determined that the inspection should be described as a “general visual inspection.” Note 1 has been included in this proposed AD to define this type of inspection.

Cost Impact

We estimate that 41 airplanes of U.S. registry would be affected by this proposed AD, that it would take about 4 work hours per airplane to accomplish the proposed inspection, and that the average labor rate is $65 per work hour. Based on these figures, the cost impact of the inspection proposed by this AD on U.S. operators is estimated to be $10,660, or $260 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fokker Services B.V.: Docket 2002-NM-302-AD.

Applicability: Model F27 Mark 100, 200, 300, 400, 500, 600, and 700 series airplanes; certificated in any category; on which one or more of the modifications specified in paragraph 1.A.(1) of Fokker Service Bulletin F27/54-53, dated February 15, 2002, has been done.

Compliance: Required as indicated, unless accomplished previously.

To ensure the structural integrity of the engine-to-wing load path and prevent possible separation of the engine from the airplane, accomplish the following:

One-Time Inspection

(a) Within 24 months after the effective date of this AD: Do a one-time general visual inspection to determine the part numbers of the engine mounting frames, brace struts, and attachment fittings; per the Accomplishment Instructions of Fokker Service Bulletin F27/54-53, dated February 15, 2002. Do the inspection and corrective action per the Accomplishment Instructions of the service bulletin. Do the related corrective action before further flight.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Related Service Information

Note 2: Fokker Service Bulletin F27/54-53, dated February 15, 2002, references Fokker Service Bulletin 51-24, dated December 1, 1971, as the appropriate source of service information for installing a new, improved engine mounting frame; and Fokker Service Bulletin F27/54-26, Revision 5, dated September 30, 2001, as the appropriate source of service information for installing new, improved, stronger brace struts and brackets.

Parts Installation

(b) As the effective date of this AD, no person may install on any airplane an engine mounting frame, brace strut, or attachment fitting unless that part has been identified as appropriate for the airplane configuration, as specified in the Accomplishment Instructions of Fokker Service Bulletin F27/54-53, dated February 15, 2002.

Alternative Methods of Compliance

(c) In accordance with 14 CFR 39.19, the Manager, International Branch, ANM-116, FAA, Transport Airplane Directorate, is authorized to approve alternative methods of compliance for this AD.

Note 3: The subject of this AD is addressed in Dutch airworthiness directive 2002-067, dated May 31, 2002.

Issued in Renton, Washington, on May 20, 2004.
Ali Bahrami,
Acting Manager, Transport Airplane Directorate, Aircraft Certification Service.

[FR Doc. 04-12399 Filed 6-1-04; 8:45 am]

BILLING CODE 4910-13-P